DEPARTMENT OF COMMERCE:

International Trade Administration

[A-475-811]

Grain-Oriented Electrical Steel From Italy: Final Results of Antidumping Administrative Review

AGENCY: Import Administration, International Trade Administration, Department of Commerce.

ACTION: Notice of final results of antidumping duty administrative review.

SUMMARY: On September 7, 2000, the Department of Commerce (the Department) published the preliminary results of the administrative review of the antidumping duty order on grain-oriented electrical steel from Italy. This review covers one manufacturer/exporter of the subject merchandise to the United States during the period of review (POR), August 1, 1998 through July 31, 1999. Based on our analysis of the comments received, we have made changes in the margin calculations. As a result, we have determined that no margin exists for Acciai Speciali Terni S.p.A. (AST).

EFFECTIVE DATE: March 14, 2001.

FOR FURTHER INFORMATION CONTACT: Helen Kramer or Steve Bezirganian, Import Administration, International Trade Administration, U.S. Department of Commerce, 14th Street and Constitution Avenue, NW., Washington, DC 20230; telephone: (202) 482-0405 or (202) 482-1131, respectively.

SUPPLEMENTARY INFORMATION:

The Applicable Statute and Regulations

Unless otherwise indicated, all citations to the Tariff Act of 1930, as amended (“the Act”) are to the provisions effective January 1, 1995, the effective date of the amendments made to the Act by the Uruguay Round Agreements Act. In addition, unless otherwise indicated, all citations to the Department's regulations are to 19 CFR part 351 (1999).

Background

On September 7, 2000, the Department of Commerce (“the Department”) published the preliminary results of the administrative review of the antidumping duty order on grain-oriented electrical steel from Italy. See Grain-Oriented Electrical Steel From Italy: Notice of Preliminary Results of Antidumping Duty Administrative Review, 65 FR 54215 (“Preliminary Results”). The period of administrative review (“POR”) is August 1, 1998, through July 31, 1999. This review covers one manufacturer/exporter of the subject merchandise to the United States. We invited parties to comment on our preliminary results. On November 15, 2000, we received case briefs from Acciai Speciali Terni S.p.A. and Acciai Speciali Terni USA, Inc. (collectively, “AST”), the sole respondent in this case, and from Allegheny Ludlum Corp., AK Steel, the Butler Armco Independent Union, the United Steelworkers of America, and the Zanesville Armco Independent Union (hereinafter the “petitioners”). Both parties filed rebuttal briefs on November 27, 2000. At AST's request, a public hearing was held on January 29, 2001. The Department issued to AST an additional supplemental questionnaire dealing with in-bond transaction issues on February 13, 2001. AST responded to this questionnaire on February 20, 2001, and petitioners commented on this AST response on February 22, 2001. AST and petitioners filed additional submissions pertaining to in-bond transactions on February 26, 2001 and February 27, 2001, respectively. The Department has conducted this review in accordance with section 751(a) of the Act.

Scope of Review

The product covered by this review is grain-oriented silicon electrical steel, which is a flat-rolled alloy steel product containing by weight at least 0.6 percent of silicon, not more than 0.08 percent of carbon, not more than 1.0 percent of aluminum, and no other element in an amount that would give the steel the characteristics of another alloy steel, of a thickness of no more than 0.560 millimeters, in coils of any width, or in straight lengths which are of a width measuring at least 10 times the thickness, as currently classifiable in the Harmonized Tariff Schedule of the United States (HTS) under item numbers 7225.30.7000, 7225.40.7000, 7225.50.8085, 7225.99.0090, 7226.11.1000, 7226.11.9030, 7226.11.9060, 7226.91.7000, 7226.91.8000, 7226.92.5000, 7226.92.7050, 7226.92.8050, 7226.99.0000, 7228.30.8050, and 7229.90.1000. Although the HTS subheadings are provided for convenience and customs purposes, our written descriptions of the scope of these proceedings are dispositive.

Analysis of Comments Received

All issues raised in the case and rebuttal briefs by parties to this administrative review are addressed in the “Issues and Decision Memorandum” (“Decision Memorandum”) from Joseph A. Spetrini, Deputy Assistant Secretary for Import Administration, Enforcement Group III, to Bernard T. Carreau, fulfilling the duties of Assistant Secretary for Import Administration, dated March 6, 2001, which is hereby adopted by this notice. A list of the issues which parties have raised and to which we have responded, all of which are in the Decision Memorandum, is attached to this notice as an Appendix. Parties can find a complete discussion of all issues raised in this review and the corresponding recommendations in this public memorandum, which is on file in room B-099 of the Department of Commerce building. In addition, a complete version of the Decision Memorandum can be accessed directly on the Internet at http://ia.ita.doc.gov. The paper copy and electronic version of the Decision Memorandum are identical in content.

Change in the Preliminary Results

Based on our analysis of comments received, we have made certain changes in the margin calculations. These changes are discussed in the relevant section of the Decision Memorandum.

Final Results of Review

We determine that a margin of zero percent exists for sales of subject merchandise by AST for the period August 1, 1998 through July 31, 1999. The Department shall instruct the U.S. Customs Service to liquidate all appropriate entries without regard to antidumping duties. The Department will also instruct Customs to release any cash deposits or bonds posted. If applicable, the Department will further instruct Customs to refund with interest any cash deposits on entries made from August 1, 1998 through July 31, 1999.

Cash Deposit Requirements

The following deposit requirements will be effective upon publication of this notice of final results of administrative review for all shipments of grain-oriented electrical steel from Italy, entered, or withdrawn from warehouse, for consumption on or after the publication date, as provided by section 751(a) of the Act: (1) for AST, the Department shall require no deposit of estimated antidumping duties; (2) if the exporter is not a firm covered in this review, a prior review, or the original less-than-fair-value (LTFV) investigation, but the manufacturer is, the cash deposit rate will be the rate established for the most recent period for the manufacturer of the merchandise; and (3) the cash deposit rate for all other manufacturers or exporters will continue to be 60.79 percent, the “all others” rate made effective by the LTFV investigation. These deposit requirements, when imposed, shall remain in effect until publication of the final results of the next administrative review. The Department will issue appraisement instructions directly to the Customs Service.

Notification of Interested Parties

This notice also serves as a final reminder to importers of their responsibility under section 351.402(f)(2) of the Department's regulations to file a certificate regarding the reimbursement of antidumping duties prior to liquidation of the relevant entries during this review period. Failure to comply with this requirement could result in the Secretary's presumption that reimbursement of antidumping duties occurred and the subsequent assessment of double antidumping duties.

This notice also serves as a reminder to parties subject to administrative protective order (APO) of their responsibility concerning the disposition of proprietary information disclosed under APO in accordance with 19 CFR 351.305. Timely notification of return/destruction of APO materials or conversion to judicial protective order is hereby requested. Failure to comply with the regulations and terms of an APO is a sanctionable violation.

We are issuing and publishing this administrative review and notice in accordance with sections 751(a)(1) and 777(i) of the Act.

Dated: March 6, 2001.
Timothy J. Hauser,
Acting Under Secretary for International Trade.

Appendix—Comments and Responses

1. In-Bond Transactions

2. Level of Trade

3. CEP Offset

4. Rebates

5. Technical Service Expenses

6. Warranty Expenses

7. Unreported U.S. Sales

[FR Doc. 01-6358 Filed 3-13-01; 8:45 am]

BILLING CODE 3510-DS-P